SMALL BUSINESS ADMINISTRATION

[Disaster Declaration #14708 and #14709]

Texas Disaster Number TX-00468

AGENCY: U.S. Small Business Administration.

ACTION: Amendment 5.

SUMMARY: This is an amendment of the Presidential declaration of a major disaster for the State of Texas (FEMA-4269-DR), dated 04/25/2016.

Incident: Severe Storms and Flooding.

Incident Period: 04/17/2016 through 04/30/2016.

Effective Date: 07/05/2016.

Physical Loan Application Deadline Date: 07/29/2016.

EIDL Loan Application Deadline Date: 01/25/2017.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Texas, dated 04/25/2016 is hereby amended to extend the deadline for filing applications for physical damages as a result of this disaster to 07/29/2016.

All other information in the original declaration remains unchanged.

(Catalog of Federal Domestic Assistance Number 59008)

James E. Rivera,
Associate Administrator for Disaster Assistance.

[FR Doc. 2016-16402 Filed 7-11-16; 8:45 am]

BILLING CODE 8025-01-P